DEPARTMENT OF AGRICULTURE

Agricultural Marketing Service

7 CFR 1221

[AMS-LS-11-0040]

Sorghum Promotion, Research, and Information Program; State Referendum Results

AGENCY: Agricultural Marketing Service, USDA.

ACTION: Announcement of referendum results.

SUMMARY: The Agricultural Marketing Service (AMS) is announcing that sorghum producers voting in a national referendum from February 1, 2011, through February 28, 2011, have approved the continuation of the Sorghum Promotion, Research, and Information Order (Order).

FOR FURTHER INFORMATION CONTACT: Kenneth R. Payne, Chief; Marketing Programs Branch, Livestock and Seed Program; Agricultural Marketing Service (AMS), USDA, Room 2628-S; STOP 0251; 1400 Independence Avenue, SW., Washington, DC 20250-0251, telephone number 202/720-1115, fax number 202/720-1125, or by e-mail at: Kenneth.Payne@ams.usda.gov.

SUPPLEMENTARY INFORMATION:

Pursuant to the Commodity Promotion, Research, and Information Act of 1996 (Act) (7 U.S.C. 7411-7425), the Department of Agriculture conducted a referendum from February 1, 2011, through February 28, 2011, among eligible sorghum producers, and importers to determine if the Order would continue to be effective. A final rule was published in the November 18, 2010, Federal Register (75 FR 70573) outlining the procedures for conducting the referendum.

Of the 1,204 valid ballots cast, 917 or 76.2 percent favored the program and 287 or 23.7 percent opposed continuing the program. For the program to continue, it must have been approved by at least a majority of those eligible persons voting for approval who were engaged in the production and sale of sorghum during the period July 1, 2008, through Dec. 31, 2010.

Therefore, based on the referendum results, the Secretary of Agriculture has determined that the required majority of eligible voters who voted in the nationwide referendum from February 1, 2011, through February 28, 2011, voted to continue the Order. As a result, the Sorghum Checkoff Program will continue to be funded by a mandatory assessment on producers, and importers at the rate of 0.6 percent of net market value of grain sorghum and 0.35 percent of net market value for sorghum forage, sorghum hay, sorghum haylage, sorghum billets, and sorghum silage. Imports of such products would also be assessed, although, very limited imports exist at this time.

State Referendum Results
[February 1, 2011 through February 28, 2011]
State | Yes votes | No votes | Total eligible votes
Alabama | 0 | 0 | 0
Alaska | 0 | 0 | 0
Arizona | 0 | 0 | 0
Arkansas | 18 | 0 | 18
California | 0 | 0 | 0
Colorado | 20 | 12 | 32
Connecticut | 0 | 0 | 0
Delaware | 0 | 0 | 0
Florida | 0 | 0 | 0
Hawaii | 0 | 0 | 0
Idaho | 0 | 0 | 0
Illinois | 21 | 7 | 28
Indiana | 2 | 4 | 6
Iowa | 0 | 0 | 0
Kansas | 247 | 183 | 430
Maine | 0 | 0 | 0
Maryland | 4 | 2 | 6
Massachusetts | 0 | 0 | 0
Michigan | 0 | 0 | 0
Minnesota | 0 | 0 | 0
Mississippi | 0 | 0 | 0
Missouri | 12 | 7 | 19
Montana | 0 | 0 | 0
Nebraska | 26 | 9 | 35
Nevada | 0 | 0 | 0
New Hampshire | 0 | 0 | 0
New Jersey | 0 | 0 | 0
New Mexico | 26 | 3 | 29
New York | 0 | 0 | 0
North Dakota | 0 | 0 | 0
Ohio | 0 | 0 | 0
Oklahoma | 38 | 13 | 51
Oregon | 0 | 0 | 0
Pennsylvania | 0 | 0 | 0
Rhode Island | 0 | 0 | 0
South Dakota | 6 | 0 | 6
Texas | 486 | 45 | 531
Utah | 0 | 0 | 0
Vermont | 0 | 0 | 0
Washington | 0 | 0 | 0
West Virginia | 0 | 0 | 0
Wisconsin | 0 | 0 | 0
Wyoming | 0 | 0 | 0
Combined Total for States with 3 or Fewer Eligible Votes: Georgia, Kentucky, Louisiana, North Carolina, South Carolina, Tennessee & Virginia | 11 | 2 | 13
Total | 917 | 287 | 1,204

Authority: 7 U.S.C. 7411-7425.

Dated: May 12, 2011.
David R. Shipman,
Acting Administrator.

[FR Doc. 2011-12134 Filed 5-17-11; 8:45 am]

BILLING CODE 3410-02-P